DEPARTMENT OF HEALTH AND HUMAN SERVICES

Administration for Children and Families

Proposed Information Collection Activity; Success Sequence Qualitative Interviews (New Collection)

AGENCY: Office of Planning, Research, and Evaluation, Administration for Children and Families, HHS.

ACTION: Request for public comment.

SUMMARY: The Office of Planning, Research, and Evaluation (OPRE), Administration for Children and Families (ACF), U.S. Department of Health and Human Services (HHS), proposes interview data collection activities for the Success Sequence Interviews study.

DATES: Comments due within 60 days of publication. In compliance with the requirements of the Paperwork Reduction Act of 1995, ACF is soliciting public comment on the specific aspects of the information collection described above.

ADDRESSES: You can obtain copies of the proposed collection of information and submit comments by emailing OPREinfocollection@acf.hhs.gov. All requests should be identified by the title of the information collection.

SUPPLEMENTARY INFORMATION:

Description: OPRE/ACF/HHS proposes qualitative data collection as part of the Success Sequence Interviews study. The goal of this project is to understand complex decisions and circumstances of youth transitions to adulthood and explore the complexities around achieving the success sequence milestones of high school graduation, full-time employment, getting married, and having children. The data collected from the interviews will help ACF and the broader research field understand adults' perspectives and experiences related to the milestones, and will provide ACF's Family and Youth Services Bureau's Sexual Risk Avoidance Education grant program with greater insight into the program content and strategies related to the success sequence milestones and their ordering that could best resonate with youth. To support these efforts, we seek approval from the Office of Management and Budget to collect qualitative interview data from adults ages 30-35, recruiting from online research panels with participants across all U.S. regions. We propose the following data collection instruments:

(1) Success Sequence Screener: The screener will be administered by telephone. Information collected through the screener will be used to screen interview respondents into the study based on respondent demographics, household income, geographic location, and life milestones.

(2) Success Sequence Interview Protocol: We will administer an asynchronous interview with adults ages 30-35. Information collected through the interview protocol includes respondent life history focused on education, employment and work experience, family life, and financial status.

Respondents: A total of 225 interview respondents will be recruited from existing large national online panels of research participants.

Annual Burden Estimates
Instrument | Total number of respondents | Total number of responses per respondent | Avg. burden per response (in hours) | Total/annual burden (in hours)
(1) Success Sequence Screener | 675 | 1 | .083 | 56
(2) Success Sequence Interview Protocol | 225 | 1 | .75 | 169

Estimated Total Annual Burden Hours: 225.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Sec. 510. [42 U.S.C. 710].

Mary B. Jones,
ACF/OPRE Certifying Officer.

[FR Doc. 2021-24397 Filed 11-8-21; 8:45 am]

BILLING CODE 4184-83-P